ENVIRONMENTAL PROTECTION AGENCY

[EPA-HQ-OLEM-2022-0375, FRL-9841-01-OLEM]

Recycling Education and Outreach; Grant Program and Model Recycling Program Toolkit; Request for Information

AGENCY: Environmental Protection Agency (EPA).

ACTION: Request for Information (RFI).

SUMMARY: EPA is developing and implementing several new programs as directed by the 2021 Infrastructure Investment and Jobs Act, also referred to as the Bipartisan Infrastructure Law. This action provides the public with the opportunity to share information to inform the development of both the Consumer Recycling Education and Outreach grant program and the Model Recycling Program Toolkit. The education and outreach grants will fund programs to improve the effectiveness of residential and community recycling programs, including those that tackle waste prevention, through public education and outreach. The Model Recycling Program Toolkit is for state, local, and tribal governments to use in carrying out their programs. The Office of Resource Conservation and Recovery (ORCR) within the EPA is seeking information about effective strategies to reach consumers and encourage them to engage in activities that reduce the generation of waste, improve effective recycling, and reduce contamination in the recycling stream. Information from a wide range of stakeholders involved in the recycling system is encouraged, including but not limited to industry, researchers, academia, state, tribal, and local governments including U.S. territories and the District of Columbia, other federal agencies, community groups, non-governmental organizations, the public and international organizations.

DATES: Written comments and information must be received on or before July 25, 2022. Information about these feedback sessions also will be included in EPA's Sustainable Materials Management Newsletter. To subscribe go to https://www.epa.gov/recyclingstrategy/forms/stay-connected.

ADDRESSES: EPA invites submission of the requested information through one of the following methods:

• Federal eRulemaking Portal: Go to http://www.regulations.gov. Follow the online instructions for submitting your comments, identified by Docket ID No. EPA-HQ-OLEM-2022-0375.

• Hand Delivery or Courier: EPA Docket Center, WJC West Building, Room 3334, 1301 Constitution Avenue NW, Washington, DC 20004. The Docket Center's hours of operations are 8:30 a.m.-4:30 p.m., Monday-Friday (except Federal Holidays).

Once submitted, comments cannot be edited or removed from Regulations.gov. EPA may publish any comment received to its public docket. Do not submit electronically any information you consider to be Confidential Business Information (CBI) or other information whose disclosure is restricted by statute. Multimedia submissions (audio, video, etc.) must be accompanied by a written comment. For additional submission methods, the full EPA public comment policy, information about CBI or multimedia submissions, and general guidance on making effective comments, please visit https://www.epa.gov/dockets/commenting-epa-dockets.

Instructions: All submissions received must include the Docket ID No. EPA-HQ-OLEM-2022-0375 for this notice. Comments received may be posted without change to https://www.regulations.gov/, including any personal information provided. For detailed instructions on sending comments see the SUPPLEMENTARY INFORMATION section of this document.

FOR FURTHER INFORMATION CONTACT: For questions concerning this document, contact Mya Sjogren, Resource Conservation and Sustainability Division, Office of Resource Conservation and Recovery, Environmental Protection Agency, 1200 Pennsylvania Avenue NW, Mail Code 5306T, Washington, DC 20460; Telephone: (202) 566-0253; Email: RecyclingEd@epa.gov. For more information on this action please visit https://www.epa.gov/rcra/infrastructure.

SUPPLEMENTARY INFORMATION:

I. Public Participation

Response to this RFI is voluntary. Responses to this RFI may be submitted by a single party or by a team. Respondents should respond to this RFI in a Microsoft Word (.docx) file or Adobe PDF (.pdf) file. This document should contain the following:

• Two clearly delineated sections: (1) Cover page with company name and contact information; and (2) responses should indicate which topic and specific questions are being addressed.

• 1-inch margins (top, bottom, and sides).

• Times New Roman and 12-point font.

Comments containing references, studies, research, and other empirical data that are not widely published should include copies or electronic links of the referenced materials. No confidential and/or business proprietary information, copyrighted information, or personally identifiable information should be submitted in response to this RFI. Privacy Note: All comments received from members of the public will be available for public viewing on Regulations.gov. In accordance with FAR 15.202(3), responses to this notice are not offers and cannot be accepted by the federal government to form a binding contract. Additionally, those submitting responses are solely responsible for all expenses associated with response preparation.

II. General Information

A. What is the purpose of this RFI?

Under the Infrastructure Investment and Jobs Act (Pub. L. 117-58), also known as the Bipartisan Infrastructure Law, EPA is directed to develop several new solid waste recycling programs. This RFI covers the following activities established by the law:

• Establishing a grant program to fund improvements to the effectiveness of residential and community recycling programs, including those that tackle waste prevention, through public education and outreach.

• Developing a model recycling program toolkit to assist states, tribes, and local governments to inform the public about residential waste prevention (e.g., source reduction, reuse, refurbishment, repair, composting) and residential or community recycling programs to improve collection rates and decrease contamination.

This RFI seeks information from a broad array of stakeholders such as industry, researchers, academia, state, territories, local, and tribal governments, other federal agencies, community groups, non-governmental organizations, the public, international organizations, and all other stakeholders involved in education and outreach to consumers and communities on waste prevention, recycling, and composting. EPA is seeking information about effective strategies to reach consumers and encourage them to engage in activities that reduce the generation of waste, improve effective recycling, and reduce contamination in the recycling stream.

This RFI is part of a series of RFIs EPA will be issuing to inform the development of new programs under the Bipartisan Infrastructure Law. Other RFIs that are related include those on the Solid Waste Infrastructure for Recycling Grant Program and the Development of Best Practices for Collection of Batteries to be Recycled and Voluntary Battery Labeling Guidelines.

III. Background

In 2018, approximately 292 million tons of municipal solid waste (MSW) were generated in the United States, of which approximately 69 million tons were mechanically recycled and 25 million tons were composted. Together, 32.1 percent of MSW (about 94 million tons) was mechanically recycled or composted, preventing over 193 million metric tons of carbon dioxide equivalent from entering the atmosphere (U.S. EPA, 2020a). The National Recycling Strategy (https://www.epa.gov/recyclingstrategy), which is part one of a series on building a circular economy for all, is focused on enhancing and advancing the national municipal solid waste recycling system. The U.S. MSW recycling system currently faces several challenges, including confusion about what materials can be recycled and how the contamination of recycled materials results in those materials being sent to landfills. Environmental benefits of advancing the U.S. recycling system include decreasing pollution and conserving energy. Preventing waste and increasing recycling reduces climate, environmental, and social impacts (pollution, health, economics) of materials use, and keeps valuable resources in use instead of in landfills.

The Bipartisan Infrastructure Law provides $15 million per year for five years in funding for ORCR to administer the Consumer Recycling Education and Outreach grant program. The funding provided through Bipartisan Infrastructure Law is a critical opportunity for ORCR to fund a range of high-impact projects to increase recycling, reduce contamination in the recycling stream, and promote a circular economy for sustainable materials management by informing the public about residential or community recycling programs, providing information and guidance about the materials that are accepted as part of these recycling programs and overall increase collection rates and decrease contamination in the recycling stream.

Eligible entities include a state; a unit of local government; an Indian Tribe (as defined in section 4 of the Indian Self-Determination and Education Assistance Act (25 U.S.C. 5304)); a Native Hawaiian organization (as defined in section 6207 of the Elementary and Secondary Education Act of 1965 (20 U.S.C. 7517)); the Department of Hawaiian Home Lands; the Office of Hawaiian Affairs; a nonprofit organization; or a public-private partnership.

Materials within the scope of this request include commonly recycled and reused materials, such as aluminum, glass, paper and plastics, as well as food, organics (yard waste, tree trimmings, wood, etc.), textiles, electronics and construction and demolition materials. Biosolids, hazardous waste and industrial wastes such as coal combustion residuals or slag are not within the scope of this request. Landfilling and incineration or combustion are not considered recycling and are not within the scope of this request.

Grant funds may be used for activities including public service announcements; door-to-door education and outreach campaigns; social media and digital outreach; an advertising campaign on recycling awareness; the development and dissemination of specific toolkits for a municipal and commercial recycling program, information on the importance of quality in the recycling stream and the economic and environmental benefits of recycling; and information on what happens to materials after the materials are placed into a residential or community recycling program; businesses recycling outreach; bin, cart, and other receptacle labeling and signs; and other education and outreach activities that are appropriate to improve recycling and reduce contamination, such as reducing waste and reusing, repairing, and refurbishing materials before they enter the recycling system.

In addition to the grants, the Bipartisan Infrastructure Law requires the development of a toolkit, which will, at a minimum, include the following information; a standardized set of terms and examples to describe materials that are accepted by a residential recycling program; information that can be widely applied across residential recycling programs; best practices for the collection and processing of recycled materials; a community self-assessment guide to identify gaps in existing recycling programs; training modules that enable States and nonprofit organizations to provide technical assistance to units of local government; access to consumer educational materials that states, tribes, and units of local government can adapt and use in recycling programs; a guide to measure the outcomes or effectiveness of a grant received under the Education and Outreach grant program, including standardized measurements for recycling rates and decreases in contamination in the recycling stream.

EPA will not consider responses to this RFI to be proposals for financial assistance projects or unsolicited requests for financial assistance. Do not include confidential business information or other privileged material in responses. Additionally, those submitting responses are solely responsible for all expenses associated with response preparation. Information gathered through this RFI may be used to inform potential strategies for supporting and improving state, territorial, tribal, and local recycling operations. ORCR welcomes comments from all stakeholders.

IV. Request for Information

Over the course of 2022, ORCR will be hosting virtual meetings across the country with interested stakeholders to inform the development of the new programs established by the Bipartisan Infrastructure Law. This RFI and the other RFIs aim to supplement those planned consultations and provide all interested individuals and organizations with the opportunity to share their perspectives on barriers and opportunities related to consumer recycling education and outreach to improve waste prevention, increase recycling and reduce contamination in the recycling stream. Specifically, when thinking about consumer recycling education and outreach of post-consumer materials management, include the recovery, reuse, recycle, repair, and/or refurbishment of MSW and construction and demolition materials, and composting.

ORCR is seeking examples of evaluations and evidence-based messaging and strategies associated with effective communication campaigns. ORCR is interested in perspectives on the following topics to inform the Recycling Education and Outreach Program Grant Program and the Model Recycling Program Toolkit:

• Standardized Terminology: What are some of the standardized terms and examples that may be used to describe materials that are accepted by a residential recycling program?

• Information on Residential Recycling: What are other kinds of standardized information that can be applied across residential recycling program, taking into consideration the differences in recycled materials that are accepted by residential recycling programs.

• Education and Outreach Best Practices: EPA is creating a toolkit to help communities with their education and outreach related to recycling.

○ Do you have examples of education and outreach programs, materials or approaches to improve recycling, source reduction, recycling, recovering, reusing, repairing, or refurbishing that are associated with demonstrated results?

○ Can you direct us to any specific examples of useful consumer educational materials or other content that states, tribes, and units of local government can adapt and use in recycling programs? What were the associated impacts and costs (financial, staff, and/or other resources) of the effective programs?

○ For communities without recycling programs, with low recycling rates, or high contamination rates in the recycling stream (i.e., plastic bags), what specific education and outreach efforts would assist communities? What kinds of technical assistance from EPA (i.e., webinars, tools, strategies, case studies, community-based messaging, toolkit implementation) would help these communities?

○ What are some model programs with evidence in raising awareness of available source reduction options to residents for materials, such as food waste, yard waste, textiles, plastics, etc.

• Training Modules: Do you have examples of training modules that will enable States and nonprofit organizations to provide technical assistance to units of local government?

• Consumer Education Materials: Do you have examples of consumer educational materials that States, Tribes, and units of local government can adapt and use in recycling programs?

• Grant Effectiveness: Do you have examples of how to measure the effectiveness of a recycling grant program, including standardized measures for recycling rates and contamination rates?

• Measuring Effective Communication: What types of messaging and communication channels (PSAs, door-to-door campaigns, social media, posters, etc.) have resulted in significant program improvements to waste diversion, recycling, or composting? Improvements might include increases in community recycling or composting rates, decreases in recycling or composting stream contamination, increases in the number of people participating in the recycling program overall or in a particular demographic, for example. Additionally, please provide examples, where possible, of program evaluations and/or evidence-based messaging results in carrying out effective communication campaigns.

• Identifying Local Conditions: What barriers exist for consumers to reduce, recycle, recover, reuse, repair, or refurbish in your state, territory, tribe, local government, or community? What resources are needed to overcome those barriers? What motivators have been identified for consumers to reduce, recycle, recover, reuse, repair, or refurbish in your state, territory, tribe, local government, or community?

• Costs and Workplans: What are some examples of outreach and education programs or studies, and associated estimated costs, that have demonstrated results in improving a recycling program in a community? What is the cost of an effective one-year education and outreach behavior change campaign for your state, territory, tribe, local government, or community? Do your recycling programs or initiatives target any specific materials, and if so, why?

• Identifying Community Needs for Improvement: For communities without recycling programs, with low recycling rates, or high contamination rates in the recycling stream, what specific education and outreach efforts would assist communities? What kinds of technical assistance from EPA (i.e., webinars, tools, strategies, case studies, community-based messaging, toolkit implementation) would help these communities?

• Formative Evaluation, Pre- and Post-testing, Piloting: What are examples of recycling education and outreach campaigns that have conducted formative research, pre- and post-testing, or piloting a new initiative with an associated evaluation? What skills or knowledge were needed to effectively conduct the formative evaluation and/or pre- and post-testing? What could EPA provide in its Model Recycling Program Toolkit to help communities evaluate their pilots or projects?

• Serving Specific Communities: What are examples of initiatives or efforts around source reduction, recovery, reuse, repair, refurbish, or recycling, that focus on supporting overburdened and underserved communities, rural communities, communities with environmental justice concerns, and/or Tribes and territories? How are those programs addressing overburdened and underserved communities? What additional actions or investment have overburdened and underserved communities expressed a need for?

• Current Stakeholder Education and Outreach Programs: Does your community currently have an outreach and education program to support and encourage recycling? If so, what are the elements of the program and how is it funded? If you have a program, how do you continue to engage the community beyond when the program has been implemented?

• Other Feedback: What suggestions should EPA consider while developing the Recycling Education and Outreach grant program and Model Recycling Program Toolkit? Based on the legislative language,¹ are there projects that you believe would be eligible in the Education and Outreach grant program, but have not been mentioned?

¹ H.R. 3684—Infrastructure Investment and Jobs Act. Section 70402. Consumer Recycling Education and Outreach Grant Program. www.congress.gov/bill/117th-congress/house-bill/3684/text.

V. Disclaimer and Important Note

This RFI is issued solely for information, research and planning purposes and does not constitute a Request for Proposals (RFP) or a Request for Applications (RFA). Any information obtained as a result of this RFI is intended to be used by EPA on a non-attribution basis to support EPA's efforts to develop the Recycling Education and Outreach—Grant Program and Model Recycling Program Toolkit. This RFI does not constitute a formal solicitation for proposals or abstracts. Your response to this notice will be treated as information only. EPA will review and consider all responses in its development of the grant program and toolkit that are the subject of this request. This RFI does not represent any award commitment on the part of EPA, nor does it obligate EPA to pay for costs incurred in the preparation and submission of any responses.

Dated: June 3, 2022.
Carolyn Hoskinson,
Director, Office of Resource Conservation and Recovery.

[FR Doc. 2022-12458 Filed 6-8-22; 8:45 am]

BILLING CODE 6560-50-P